DEPARTMENT OF TRANSPORTATION

Federal Aviation Administration

Notice of Availability of Draft Supplemental Part 150 Study and Draft Environmental Assessment, Notice of Public Comment Period, and Notice of Public Hearing/Workshop for Proposed Noise Abatement Air Traffic measures for the Toledo Express Airport Located in Toledo, OH

AGENCY: Federal Aviation Administration, Department of Transportation.

ACTION: Notice of availability, notice of comment period, notice of public hearing/workshop.

SUMMARY: The Federal Aviation Administration (FAA) is issuing this notice to advise the public that the 2002 Draft Supplemental Part 150 Study and Draft Environmental Assessment (EA) have been prepared and are available for public review and comment. The 2002 Draft Supplemental Part 150 Study is a supplement to the 1999 Part 150 Study Update. The Draft EA assesses and discloses the environmental impacts of the proposed noise abatement air traffic measures recommended for implementation in the 2002 Draft Supplemental Part 150 Study and 1999 Part 150 Study Update. Written requests for the Draft Supplement and/or Draft EA may be directed to Mr. Paul Toth, Airport Director, Toledo Express Airport, 11013 Airport Highway, Swanton, OH 43558.

PUBLIC COMMENT PERIOD AND HEARING/WORKSHOP: The public comment period for the 2002 Draft Supplemental Part 150 Study and the Draft EA will begin on November 12, 2002 and will close on December 20, 2002. A Public Hearing/Workshop will be held on December 12, 2002 for both documents. The Hearing/Workshop will begin at 5:30 p.m. and last until 7:30 p.m. or until all interested people have spoken. The location for the Hearing/Workshop is the VFW Hall at 1950 S. Eber Road, Holland, Ohio. Interested Parties may address the 2002 Draft Supplemental Part 150 Study and/or the Draft EA in their comments at the Hearing/Workshop.

Copies of the Draft Supplement and Draft EA may be viewed during regular business hours at the following locations:

1. Toledo Express Airport, 11013 Airport Highway, Swanton, OH 43558.

2. Toledo-Lucas County Port Authority, One Maritime Plaza, Toledo, OH, 43604-1866.

3. Toledo-Lucas County Public Library, 1032 South McCord Road, Holland, OH 43528.

4. Swanton Public Library, 305 Chestnut Street, Swanton, OH 43558.

5. FAA, Great Lakes Region, 2300 E. Devon Ave., Des Plaines, IL 60018.

6. FAA, Detroit Airports District Office, Willow Run Airport, 8820 Beck Road, Belleville, MI 48111.

FOR FURTHER INFORMATION ON THE DRAFT SUPPLEMENTAL PART 150 STUDY CONTACT: Ms. Katherine Jones, FAA, Detroit Airports District Office, Willow Run Airport, 8820 Beck Road, Belleville, MI 48111. Ms. Jones may be contacted at (734) 487-7298.

FOR FURTHER INFORMATION ON THE DRAFT ENVIRONMENTAL ASSESSMENT CONTACT: Ms. Annette Davis, FAA, Great Lakes Region, Air Traffic Division, 2300 East Devon Avenue, Des Plaines, Illinois, 60018. Ms. Davis may be contacted at (847) 294-8091.

SUPPLEMENTARY INFORMATION: In 1991, the Toledo-Lucas County Port Authority (TLCPA) initiated a series of noise contour updates that were reflective of Burlington Air Express Global operations. The reanalysis of the noise contours continued in 1994, 1995/1996 and 1999. None of these resulted in an approved contour from the FAA. A Part 150 Study Update was completed in 1999, but not approved. In 2002, a Supplemental Part 150 Study was prepared for the 1999 Part 150 Study Update to update existing and future noise exposure and determine if the recommended noise abatement air traffic measures and land use mitigation measures were still reasonable and feasible.

The Draft EA assesses the potential environmental impacts of the recommended noise abatement air traffic measures from the 2002 Supplemental Part 150 Study, which is a supplemental report to the 1999 Part 150 Study Update. The goal of the 1999 Noise Compatibility Plan (NCP) was to reduce noise impacts in the 65 DNL noise contour, as well as impacts in the 60-65 DNL noise contour. The noise abatement air traffic measures recommended in the 1999 NCP would have met that goal if they had been approved and implemented, because the measures would have directed aircraft over areas with the fewest number of people. The goal of the TLCPA to reduce noise impacts in the 65 DNL noise contour, as well as impacts in the 60-65 DNL noise contour, has not changed. The noise abatement air traffic measures would still meet this goal because the measures would continue to direct aircraft traffic over the most noise compatible areas. Therefore, the noise abatement air traffic measures are still feasible and reasonable.

Comments from interested parties on the 2002 Supplemental Part 150 Study or Draft EA are encouraged and may be presented at the Public Hearing/Workshop or may be submitted in writing to the TLCPA's consultant, Mr. Rob Adams, Landrum & Brown, Inc., 11279 Cornell Park Drive, Cincinnati, OH 45242. The comment period will close on December 20, 2002.

Issued in Des Plaines, Illinois on November 1, 2002.
Richard K. Peterson,
Acting Manager, Air Traffic Division, FAA, Great Lakes Region.

[FR Doc. 02-28826 Filed 11-12-02; 8:45 am]

BILLING CODE 4910-13-M